DEPARTMENT OF ENERGY

Federal Energy Regulatory Commission

Combined Notice of Filings

Take notice that the Commission has received the following Natural Gas Pipeline Rate and Refund Report filings:

Filings Instituting Proceedings

Docket Numbers: RP21-1055-000.

Applicants: Colorado Interstate Gas Company, L.L.C.

Description: Compliance filing: Operational Purchase and Sales Report 2021 to be effective N/A.

Filed Date: 8/27/21.

Accession Number: 20210827-5060.

Comment Date: 5 p.m. ET 9/8/21.

Docket Numbers: RP21-1056-000.

Applicants: Tres Palacios Gas Storage LLC.

Description: Compliance filing: Informational Filing Re MBR Authority, Compliance Dkt. Nos. CP07-90-000 et al. to be effective N/A.

Filed Date: 8/27/21.

Accession Number: 20210827-5072.

Comment Date: 5 p.m. ET 9/8/21.

Docket Numbers: RP21-1057-000.

Applicants: Northern Border Pipeline Company.

Description: § 4(d) Rate Filing: NBPL—TC eConnects Implementation to be effective 10/1/2021.

Filed Date: 8/27/21.

Accession Number: 20210827-5163.

Comment Date: 5 p.m. ET 9/8/21.

Docket Numbers: RP21-1059-000.

Applicants: Northwest Pipeline LLC.

Description: § 4(d) Rate Filing: 2021 Winter Fuel Filing to be effective 10/1/2021.

Filed Date: 8/30/21.

Accession Number: 20210830-5036.

Comment Date: 5 p.m. ET 9/13/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2021.
Debbie-Anne A. Reese,
Deputy Secretary.

[FR Doc. 2021-19075 Filed 9-2-21; 8:45 am]

BILLING CODE 6717-01-P